ENVIRONMENTAL PROTECTION AGENCY

40 CFR Part 300

[EPA-HQ-SFUND-2003-0010; FRL-9993-17-Region 7]

National Oil and Hazardous Substances Pollution Contingency Plan; National Priorities List: Partial Deletion of the Omaha Lead Superfund Site

AGENCY: Environmental Protection Agency (EPA).

ACTION: Proposed rule; notice of intent.

SUMMARY: The Environmental Protection Agency (EPA) Region 7 is issuing a Notice of Intent to Delete 500 residential parcels of the Omaha Lead Superfund site (Site or OLS) located in Omaha, Nebraska, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the state of Nebraska, through the Nebraska Department of Environmental Quality, determined that all appropriate response actions under CERCLA were completed at the identified parcels. However, this deletion does not preclude future actions under CERCLA.

This partial deletion pertains to 500 residential parcels. The remaining parcels will remain on the NPL and are not being considered for deletion as part of this action.

DATES: Comments must be received on or before June 24, 2019.

ADDRESSES: You may send comments, identified by Docket ID No. EPA-HQ-SFUND-2003-0010, by one of the following methods: https://www.regulations.gov follow the online instructions for submitting comments; email hagenmaier.elizabeth@epa.gov or freeman.tamara@epa.gov; or by mail to Environmental Protection Agency Region 7, 11201 Renner Boulevard, Lenexa, KS 66219, Attention: Elizabeth Hagenmaier, SUPR Division or Tamara Freeman, ECO Office. The Omaha public libraries also have computer resources available to assist the public. The W. Dale Clark Library, located at 215 S. 15th Street, Omaha, NE 68102 is centrally located within the site boundary.

Publicly available docket materials are available either electronically in https://www.regulations.gov or in hard copy at: EPA Region 7 Records Center at 11201 Renner Boulevard, Lenexa, Kansas 66219, between 8:00 a.m. and 4:00 p.m. Monday-Friday, excluding Federal holidays.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Elizabeth Hagenmaier, Remedial Project Manager, U.S. Environmental Protection Agency Region 7, SUPR/LMSE, 11201 Renner Boulevard, Lenexa, KS 66219, telephone (913) 551-7939, email: hagenmaier.elizabeth@epa.gov.

SUPPLEMENTARY INFORMATION: Throughout this document “we,” “us,” or “our” refer to the EPA. This section provides additional information by addressing the following:

I. Written Comments

II. Introduction

III. NPL Deletion Criteria

IV. Deletion Procedures

V. Background and Basis for Intended Partial Site Deletion

I. Written Comments

Submit your comments, identified by Docket ID No. EPA-HQ-SFUND-2003-0010, at https://www.regulations.gov. Alternatively, you may submit comments by email or mail to the persons and addresses listed in the ADDRESSES section of this document. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. Introduction

The EPA Region 7 is proposing to delete 500 residential parcels of the Omaha Lead Superfund site (Site or OLS), from the National Priorities List (NPL) and is requesting public comment on this proposed action. The table of 500 Properties Proposed for the 2019 Partial Deletion of Properties from the Omaha Lead Superfund site. (EPA-HQ-SFUND-2003-0010-1966) identifies specific properties included for this proposed partial deletion. The location of the 500 properties are shown on Figure 1 “Map for the 2019 Partial Deletion Omaha Lead Site” (EPA-HQ-SFUND-2003-0010-1964). The NPL constitutes appendix B of 40 CFR part 300, which is the National Oil and Hazardous Substances Pollution Contingency Plan (NCP), which the EPA promulgated pursuant to section 105 of the Comprehensive Environmental Response, Compensation and Liability Act (CERCLA) of 1980, as amended. The EPA maintains the NPL as those sites that appear to present a significant risk to public health, welfare, or the environment. Sites on the NPL may be the subject of remedial actions financed by the Hazardous Substance Superfund (Fund). This partial deletion of the Omaha Lead Superfund site is proposed in accordance with 40 CFR 300.425(e) and is consistent with the Notice of Policy Change: Partial Deletion of Sites Listed on the National Priorities List, 60 FR 55466 (November 1, 1995). As described in 300.425(e)(3) of the NCP, a portion of a site deleted from the NPL remains eligible for Fund-financed remedial action if future conditions warrant such actions.

The EPA will accept comments on the proposal to partially delete this site for thirty (30) days after publication of this document in the Federal Register.

Section III of this document explains the criteria for deleting sites from the NPL. Section IV discusses procedures that the EPA is using for this action. Section V discusses the 500 residential parcels of the Omaha Lead Superfund site and demonstrates how they meet the deletion criteria.

III. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews to ensure the continued protectiveness of remedial actions where hazardous substances, pollutants, or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

IV. Deletion Procedures

The following procedures apply to deletion of the 500 residential parcels of the Site:

(1) The EPA consulted with the state before developing this Notice of Intent for Partial Deletion.

(2) The EPA has provided the state thirty working days for review of this notice prior to publication of it in this notice.

(3) In accordance with the criteria discussed above, the EPA has determined that no further response is appropriate.

(4) The state of Nebraska, through the Nebraska Department of Environmental Quality, has concurred with the deletion of the 500 residential parcels of the Omaha Lead Superfund site, from the NPL.

(5) Concurrently, with the publication of this Notice of Intent for Partial Deletion in the Federal Register, a notice is being published in a major local newspaper, the Omaha World Herald. The newspaper announces the 30-day public comment period concerning the Notice of Intent for Partial Deletion of the Site from the NPL.

(6) The EPA placed copies of documents supporting the proposed partial deletion in the deletion docket and made these items available for public inspection and copying at the Site information repositories identified above.

If comments are received within the 30-day comment period on this document, the EPA will evaluate and respond appropriately to the comments before making a final decision to delete the 500 residential parcels. If necessary, the EPA will prepare a Responsiveness Summary to address any significant public comments received. After the public comment period, if the EPA determines it is still appropriate to delete the 500 residential parcels of the Omaha Lead Superfund site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

V. Background and Basis for Partial Site Deletion

The following information provides EPA's rationale for deleting the 500 residential parcels of the Omaha Lead Superfund site from the NPL, as previously identified.

Site Background and History

The Omaha Lead Superfund site (Site or OLS [CERCLIS ID #NESFN0703481]) includes surface soils present at residential properties, child-care centers, and other residential-type properties in the city of Omaha, Douglas County, Nebraska. The properties were contaminated as a result of deposition of aerial emissions from historic lead smelting and refining operations. The OLS encompasses the eastern portion of the greater metropolitan area in Omaha, Nebraska. The site extends from the Douglas-Sarpy County line on the south, north to Read Street and from the Missouri River on the east to 56th Street on the west. The Site is centered around downtown Omaha, Nebraska, where two former lead-processing facilities operated. American Smelting and Refining Company, Inc. (ASARCO) operated a lead refinery at 500 Douglas Street in Omaha, Nebraska, for over 120 years. Aaron Ferer & Sons Company (Aaron Ferer), and later Gould Electronics, Inc., (Gould) operated a lead battery recycling plant located at 555 Farnam Street. Both ASARCO and Aaron Ferer/Gould facilities released lead-containing particulates into the atmosphere from their smokestacks. The lead particles were subsequently deposited on surrounding residential properties.

Beginning in 1984, the Douglas County Health Department (DCHD) monitored ambient air quality around the ASARCO facility. This air monitoring routinely measured ambient air lead concentrations in excess of the ambient air standard. Between 1972 and 1998 the DCHD measured the blood lead level in children within the county. The results of the measurements indicated a high incidence of elevated blood lead level in children. Blood lead screening of children living in zip codes located east of 45th Street consistently exceeded 10 micrograms per deciliter (μg/dl) more frequently than children living elsewhere in the county.

In 1998, the Omaha City Council requested assistance from the EPA to address the high incidence of children found with elevated blood lead levels by the DCHD. In 1999, the EPA initiated an investigation into the lead contamination under the authority of Comprehensive Environmental Response, Compensation, and Liability Act (CERCLA). On February 26, 2002, the OLS was proposed for the NPL (67 FR 8836), and on April 30, 2003, the OLS was listed on the NPL (68 FR 23077).

The OLS includes those residential properties where the EPA determined through soil sampling that soil lead levels represent an unacceptable risk to human health. Residential properties where soil sampling indicates that lead concentrations in the soil are below a level that represent an unacceptable risk are not included in the Site. Residential properties include those with high accessibility to sensitive populations (children seven years of age and younger [0 to 84 months] and pregnant or nursing women). The properties include single and multi-family dwellings, apartment complexes, child daycare facilities, vacant lots in residential areas, schools, churches, community centers, parks, greenways, and any other areas where children may be exposed to site-related contaminated media. Commercial and industrial properties are excluded from the definition of the Site.

The residential properties proposed for deletion from the NPL site were cleaned up under both CERCLA removal and remedial authority. Regardless of the authority used for the remediation of yards, the cleanup levels for soils for all the properties proposed for deletion were the same.

Response Actions

The initial EPA response was conducted under CERCLA removal authority. Due to the size of the site and the very large number of individual properties, it was necessary to prioritize sites for cleanup. The prioritization was based on factors such as the elevated blood level of children at each property and the lead concentration in the soil at each property. The result was a series of action levels that reflected the priority of categories of sites. Consequently, the action level for the site soils changed over time from 2500 mg/kg to 400 mg/kg, as the highest priority sites were cleaned up first. The cleanup level was established using the Integrated Exposure Uptake Biokinetic (IEUBK) model to determine the concentration to which the lead is cleaned up at each property within the site. The cleanup level for the OLS is 400 mg/kg of lead in the soil. The cleanup level of 400 mg/kg was selected to allow for unlimited use and unrestricted exposure. The cleanup level has not changed, and all properties, regardless of the action level, were cleaned up to 400 mg/kg.

Removal Activities

Beginning in March 1999, the EPA began collecting soil samples from properties that provided licensed child daycare services. The initial removal action dated August 2, 1999, consisted of excavation and replacement of contaminated soil where the lead concentration exceeded the action levels identified in the Action Memorandum. Response actions were implemented at properties that met either of the following criteria:

• A child seven years of age or younger (0 to 84 months) residing at the property was identified with an elevated blood level (EBL) exceeding 15 μg/dl (this EBL was reduced to 10 μg/dl in August 2001) and a soil sample collected from a non-foundation quadrant exhibited lead concentrations greater than 400 mg/kg, or

• A property was used as a child-care facility and a soil sample collected from a non-foundation quadrant exhibited a lead concentration greater than 400 mg/kg.

On August 22, 2002, the EPA initiated a second removal action. This second removal action included all other residential type properties where the maximum non-foundation soil lead concentration exceeded an action level of 2,500 mg/kg. The 2002 Action Memorandum explicitly identifies the possibility of lead-based paint as a potential contributor to lead contamination of soils within thirty inches of the foundation of a painted structure. Due to the potential contribution of deteriorating lead-based paint near the foundations of structures, a lead concentration greater than 400 mg/kg in the soil in the drip zone (areas near structure foundations) was not, in itself, sufficient to trigger soil removal. However, if a soil sample from any mid-yard quadrant exceeded the action level, soil was removed from all areas of the property exceeding the 400 mg/kg cleanup level, including the drip zone. In November 2003, the EPA amended the second removal action to reduce the action level to 1,200 mg/kg concentration of lead in soil. In March 2004, the EPA amended the second removal action to combine the two removal actions. In March 2005, the EPA amended the removal action to reduce the action level from 1200 mg/kg to 800 mg/kg.

At properties determined to be eligible for response under either of the Action Memoranda, soil with lead concentrations greater than the cleanup level was excavated and replaced with clean soil and the excavated areas were revegetated.

EPA signed an Interim Recored of Decision on December 15, 2004. Beginning with the construction season of 2005, the scope of the removal action was expanded to address the requirements of the 2004 Interim ROD to include: (1) Stabilization of deteriorating exterior lead-based paint at properties where the continued effectiveness of the soil remediation was threatened; (2) response to interior dust at properties where interior dust lead levels exceeded applicable criteria; (3) public health education; and (4) participation in a comprehensive remedy with other agencies and organizations that addresses all identified lead hazards in the Omaha community.

Remedial Investigation/Feasibility Study (RI/FS)—Human Health Risk Assessment

As part of the RI/FS, the EPA developed a Human Health Risk Assessment (HHRA) for the Site using site-specific information collected during the OLS Remedial Investigation. Lead was identified as the primary contaminant of concern. The HHRA also identified arsenic as a potential contaminant of concern, but arsenic was eliminated based on its relatively low overall risk to residents and lack of connection to the release from the industrial sources being addressed by this Superfund action.

The risk assessment for lead focused on young children under the age of seven (0 to 84 months) who are site residents. Young children are most susceptible to lead exposure because they have higher contact rates with soil or dust, absorb lead more readily than adults, and are more sensitive to the adverse effects of lead than are older children and adults. The effect of greatest concern in children is impairment of the nervous system, including learning deficits, reduced intelligence, and adverse effects on behavior. The IEUBK model for lead in children was used to evaluate the risks posed to young children (0 to 84 months) resulting from the lead contamination at the site. Because lead does not have a nationally-approved reference dose (RfD), cancer slope factor, or other accepted toxicological factor which can be used to assess risk, standard risk assessment methods cannot be used to evaluate the health risks associated with lead contamination. The modeling results determined that there was an unacceptable risk to young children from exposure to soils above 400 mg/kg.

In October 2008, the EPA released a draft Final Remedial Investigation. Based on the 2008 data set, EPA established the boundary of the Final Focus Area for the Site. The Final Focus Area is generally bounded by Read Street to the north, 56th Street to the west, Harrison Street (Sarpy County line) to the south, and the Missouri River to the east, and encompasses 17,280 acres (27.0 square miles). By the time the Final Remedial Investigation was completed, the EPA had collected soil samples from 37,076 residential properties, including 34,565 properties within the Final Focus Area's boundary. In total, 34.2 percent of properties sampled through completion of the 2008 RI had at least one mid-yard sample with a soil lead level exceeding 400 mg/kg. In addition to soil sampling, the EPA collected dust samples from the interior of 159 residences to support the OLS Human Health Risk Assessment.

Record of Decision

The EPA completed the Final Record of Decision (ROD) for the OLS in May 2009. The Remedial Action Objective is to reduce the risk of exposure of young children to lead such that an individual child, or group of similarly exposed children, have no greater than a five percent chance of having a blood-lead concentration exceeding 10 μg/dl. The selected remedy includes the following components:

• Excavation and Replacement of Soils Exceeding 400 mg/kg Lead

• Stabilization of Deteriorating Exterior Lead-Based Paint

• Response to Lead-Contaminated Interior Dust

• Health Education

• Operation of a Local Lead Hazard Registry as a type of Institutional Control

Each of these components is described below.

Remedial Actions

Excavation and Replacement of Soils Exceeding 400 mg/kg Lead

Excavation of soils was accomplished using lightweight excavation equipment and hand tools in the portions of the yard where the concentration of lead in the surface soil exceeded 400 mg/kg. Excavation continued in all quadrants, play zones, and drip zone areas exceeding 400 mg/kg lead until the residual lead concentration measured at the exposed surface of the excavation was less than 400 mg/kg in the upper foot, or less than 1,200 mg/kg at depths greater than one foot. Typically, soil excavation depths were between six and ten inches in depth. Soils in garden areas were excavated until reaching a residual concentration of less than 400 mg/kg in the upper two feet measured from the original surface, or less than 1,200 mg/kg at depths greater than two feet.

After confirmation sampling verified that cleanup goals were achieved, the excavated areas were backfilled with clean soil to original grade and sod was placed over the remediated areas.

EPA's remediation contractors stockpiled contaminated soil in staging areas, collected samples, and subsequently transported soil to an off-site subtitle D solid waste disposal landfill for use as daily cover and/or disposal.

Stabilization of Deteriorating Exterior Lead-Based Paint

The EPA used the lead-based paint assessment protocol, presented in the Final Lead-Based Paint Recontamination Study Report prepared for the OLS, to determine eligibility for exterior lead-based paint stabilization at those properties where soil lead concentrations exceeded 400 mg/kg. At those properties where the exterior lead-based paint assessment identified a threat from deteriorating paint to the continued protectiveness of the soil remedy, the owner of the property was offered stabilization of painted surfaces on structures located on the property. Exterior lead-based paint stabilization is not mandatory and was provided to those qualifying property owners who chose to have their exterior paint stabilized. Removal of loose and flaking lead-based paint was performed using lead-safe practices as described in EPA's Renovate, Repair and Painting Rule. The practices include wet scraping, and collection of paint chips using plastic sheeting. Scraped areas were primed and all previously painted surfaces had two coats of paint applied.

Response to Lead-Contaminated Interior Dust

As part of the final remedy, residents at eligible properties are provided the opportunity to have interior dust sampled. The interior dust response is not mandatory, and the resident may choose to decline. If the property owner agrees, the EPA collects samples of dust from interior surfaces. The analytical data is provided to the resident/tenant in a letter and the letter informs them whether any HUD criteria are exceeded. The Douglas County Health Department conducts follow up activities at any residence where the concentration of lead in the interior dust levels exceed the HUD criteria. For those residences that qualify and where the resident agrees, the residents are provided with a high-efficiency household vacuum cleaner, training on the maintenance and the importance of proper usage of the vacuum, and education on mitigation of household lead hazards. The Douglas County Health Department also provides training and education regarding the need to mitigate interior dust.

Exterior lead-based paint stabilization and interior dust response were conducted retroactively at properties where soil cleanups were performed under CERCLA removal authority, as well as to properties addressed under CERCLA remedial authority.

Health Education

There are a number of identified lead hazards within the OLS, not all of which are connected to the contaminant source of the OLS. To better address all potential lead sources within the OLS, a health education program was developed and continues to be implemented to increase public awareness and mitigate exposure. An active educational program continues in cooperation with agencies and organizations that include Agency for Toxic Substances and Disease Registry (ATSDR), the Nebraska Department of Health and Human Services (NDHHS), DCHD, local non-governmental organizations, and other interested parties. The following, although not an exhaustive list, indicate the types of educational activities provided at the Site:

• Support for in-home assessments for children identified with elevated blood lead levels.

• Development and implementation of lead poisoning prevention curriculum in schools.

• Support for efforts to increase community-wide blood lead monitoring.

• Physicians' education for diagnosis, treatment, and surveillance of lead exposure.

• Operation of Public Information Centers to distribute information and respond to questions about the EPA response activities and lead hazards in the community.

• Use of mass media (television, radio, internet, print media, etc.) to distribute health education messages.

• Development and distribution of informational tools such as fact sheets, brochures, refrigerator magnets, etc., to inform the public about lead hazards and measures that can be taken to avoid or eliminate exposure.

Institutional Controls

The Omaha Lead Registry, (available at www.omahalead.org) is a GIS based database that provides the public with on-line access to the status of the EPA investigation and response actions. The EPA notifies residents and property owners about the information that is available through the lead hazard registry as part of the transmittal sent at the completion of soil remediation at each individual property.

Community Involvement

The EPA worked extensively with the Omaha community through a variety of communication vehicles including, but not limited to: Local speaking engagements, participation in citizens' groups and city council meetings, local public access television, public service announcements on local cable television, coverage on radio, television, in local and national newspapers, mass mailings of informational materials, public outreach by telephone, conducting public meetings, and through the EPA website.

The EPA has been performing outreach to Omaha citizens, elected officials, school officials, health officials, the media, nonprofit groups, and others since becoming involved in the project in an effort to convey information about the hazards of lead poisoning, particularly the ways that lead affects the health of children. The EPA participated in numerous formal and informal meetings to explain EPA's role and commitment in Omaha, convey information about the Superfund process, and provide general information about the site and lead contamination. The EPA responds to inquiries on a daily basis regarding the site and individual property owner's sampling results.

In January 2004, a Community Advisory Group (CAG) was formed for the OLS site. A CAG is a committee, task force, or board made up of residents affected by a Superfund site. The CAG provided a public forum where representatives with diverse community interests could present and discuss their needs and concerns related to the site and the cleanup process. The CAG was discontinued after the last meeting was held in October 2011. A new group, Child Lead Poisoning Prevention Group, formed. The first meeting of the Child Lead Poisoning Group was held at City Hall in May 2012. The Group is no longer active.

Five-Year Review

The EPA completed the first Five-Year Review for the site in September 2014. Five-Year Reviews for the site are statutory. The triggering action for the Five-Year Review is the completion of the Final Record of Decision for Operable Unit 2, completed in May 2009.

The protectiveness of the remedy was deferred in the Five-Year Review because the remedy had not been completed at all of the properties within the site boundary. However, cleanup activities at the 500 residential parcels included in this partial deletion action are complete and protective of human health. There are no issues or recommendations in the Five-Year Review related to these 500 residential parcels proposed for deletion.

The next Five-Year Review will be completed in September 2019.

Summary of EPA Work Completed

Soil Testing and Remediation

The EPA Region 7 completed the EPA lead portion of the remedial action on December 29, 2015. The city of Omaha and the Douglas County Health Department will be performing the remaining field work. As of December 29, 2015, the EPA collected soil samples from 42,047 properties. There are 489 remaining properties to be sampled. The EPA has obtained access to collect samples from 163 of the 489 properties.

Based on the soil sampling results, 14,019 properties were eligible for soil remediation. The EPA remediated lead contaminated soil at 13,090 properties (93 percent) of the properties that were eligible for remediation. There are approximately 929 remaining properties that are eligible for soil remediation. The EPA obtained access to remediate fifty-one of the remaining properties.

Lead-Based Paint Testing and Stabilization

The EPA tested 12,057 properties for the presence of lead-based paint (LBP). Six thousand seven hundred and eighty-two (6,782) properties qualify for LBP stabilization. The EPA completed LBP stabilization on 6,249, (92 percent) of the eligible properties.

Dust Sampling

The EPA collected dust samples from 3,933 properties consisting of 4,477 residences for lead contaminated dust. These numbers reflect the fact that some of the properties are multi-residence properties.

Continuing Remedial Action

The EPA completed Cooperative Agreements with the city of Omaha and the Douglas County Health Department that provide funds to allow these local government agencies to continue efforts to obtain access to the remaining properties and conduct sampling and remediation activities at those properties where they obtain access.

Determination That the Criteria for Deletion Has Been Achieved

In accordance with 40 CFR 300.425(e), Region 7 of the EPA finds that the 500 residential parcels of the Omaha Lead Superfund site (the subject of this deletion action) meet the substantive criteria for deletion from the NPL. The EPA has consulted with and has the concurrence of the state of Nebraska. All responsible parties or other persons have implemented all appropriate response actions required. All appropriate Fund-financed response under CERCLA was implemented, and no further response action by responsible parties is appropriate.

The implemented remedy at the 500 residential parcels has achieved the degree of cleanup specified in the ROD for all pathways of exposure. All selected remedial action objectives and associated cleanup levels are consistent with agency policy and guidance. No further Superfund response is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: May 8, 2019.
Edward H. Chu,
Acting Regional Administrator, Region 7.

[FR Doc. 2019-10568 Filed 5-23-19; 8:45 am]

BILLING CODE 6560-50-P